FEDERAL EMERGENCY MANAGEMENT AGENCY

44 CFR Part 67

[Docket No. FEMA-B-7432]

Proposed Flood Elevation Determinations

AGENCY: Federal Emergency Management Agency (FEMA).

ACTION: Proposed rule.

SUMMARY: Technical information or comments are requested on the proposed Base (1% annual chance) Flood Elevations (BFEs) and proposed BFE modifications for the communities listed below. The BFEs and modified BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the following table.

FOR FURTHER INFORMATION CONTACT: Matthew B. Miller, P.E., Chief, Hazards Study Branch, Federal Insurance and Mitigation Administration, FEMA, 500 C Street SW., Washington, DC 20472, (202) 646-3461, or (e-mail) matt.miller@fema.gov.

SUPPLEMENTARY INFORMATION: FEMA proposes to make determinations of BFEs and modified BFEs for each community listed below, in accordance with Section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

National Environmental Policy Act. This proposed rule is categorically excluded from the requirements of 44 CFR part 10, Environmental Consideration. No environmental impact assessment has been prepared.

Regulatory Flexibility Act. The Administrator, Federal Insurance and Mitigation Administration certifies that this proposed rule is exempt from the requirements of the Regulatory Flexibility Act because proposed or modified BFEs are required by the Flood Disaster Protection Act of 1973, 42 U.S.C. 4104, and are required to establish and maintain community eligibility in the NFIP. No regulatory flexibility analysis has been prepared.

Regulatory Classification. This proposed rule is not a significant regulatory action under the criteria of Section 3(f) of Executive Order 12866 of September 30, 1993, Regulatory Planning and Review, 58 FR 51735.

Executive Order 12612, Federalism. This proposed rule involves no policies that have federalism implications under Executive Order 12612, Federalism, dated October 26, 1987.

Executive Order 12778, Civil Justice Reform. This proposed rule meets the applicable standards of Section 2(b)(2) of Executive Order 12778.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376, § 67.4

2. The tables published under the authority of § 67.4 are proposed to be amended as follows:

State | City/town/county | Source of flooding | Location | #Depth in feet above ground. *Elevation in feet. (NGVD): Existing | #Depth in feet above ground. *Elevation in feet. (NGVD): Modified
California | Madera County | San Joaquin River | At State Highway 145 Just upstream of State Highway 99 | None | *225
|  |  |  | *245 | *244
|  |  | Approximately 5,000 feet upstream of Atchison, Topeka and Santa Fe Railroad | *252 | *251
Maps are available for inspection at the Madera County Planning Department, 135 West Yosemite Avenue, Madera, California 93637.
Send comments to The Honorable Frank Bigelow, Chairman, Madera County Board of Supervisors, Madera County Government Center, 209 West Yosemite Avenue, Madera, California 93637.

Flooding source(s) | Location of referenced elevation | Elevation in feet *(NGVD) Elevation in feet +(NAVD): Effective | Elevation in feet *(NGVD) Elevation in feet +(NAVD): Modified | Communities affected
Fresno County, and Incorporated Areas
San Joaquin River | At State Highway 145 | None | *225 | City of Fresno and Uninc Areas Fresno County.
| Just upstream of State Highway 99 | *245 | *244
| Approximately 5,000 feet upstream of Atchison, Topeka and Santa Fe Railroad | *252 | *251
Addresses:
# Depth in feet above ground.
Fresno County (Unincorporated. Areas):
Maps are available for inspection at the Fresno County Department of Public Works and Planning, 2220 Tulare Street, Fresno, California 93721.
Send comments to The Honorable Bart Bohn, Fresno County Administrative Officer, County Hall of Records, Room 304, 2281 Tulare Street, Fresno, California 93721.
City of Fresno:
Maps are available for inspection at City Hall, 2600 Fresno Street, Room 3043, Fresno, California 93721.
Send comments to The Honorable Alan Autry, Mayor, City of Fresno, City Hall, 2600 Fresno Street, Fresno, California 93721-3600.

(Catalog of Federal Domestic Assistance No. 83.100, “Flood Insurance.”)
Dated: October 30, 2002.
Anthony S. Lowe,
Administrator, Federal Insurance and Mitigation Administration.

[FR Doc. 02-27968 Filed 11-1-02; 8:45 am]

BILLING CODE 6718-04-P